DEPARTMENT OF DEFENSE

Department of the Army

Notice of Availability of the Fort Sam Houston, Camp Bullis and Canyon Lake Recreation Center Record of Decision (ROD) for the Master Plan Final Programmatic Environmental Impact Statement (PEIS)

AGENCY: Department of the Army, DoD.

ACTION: Notice of availability.

SUMMARY: This announces the availability of the ROD for the Fort Sam Houston, Camp Bullis and Canyon Lake Recreation Area Master Plan Final PEIS, which assesses the potential environmental impacts of implementing three master planning alternatives. Alternative 1, the No Action Alternative, includes the continuation of the currently identified stationed population reductions, as reflected in the Army Stationing and Installations Plan; the projected reductions in the Real Property Maintenance Activity budget program for facility maintenance and repair; the “zero investment” maintenance expenditures for vacant historical facilities, and the projected reductions in the base operations budget program for utilities and other engineering services. Alternative 2, Reuse of Facilities and Property by Federal Users, would result in an adaptive reuse of currently vacant historical facilities using the existing appropriated funds process. This may be accomplished by bringing to Fort Sam Houston additional military missions through individual stationing decisions that take advantage of the capabilities of Fort Sam Houston; and/or additional federal missions through individual stationing decisions that take advantage of the capabilities of Fort Sam Houston. Alternative 3, Reduction of Underutilized/Unutilized Property through Lease, Sale, or Removal, would result in the reduction of underutilized/unutilized facilities and property on Fort Sam Houston and Camp Bullis, in addition to changes in the Land Use Plan. The reduction in underutilized/unutilized property may be accomplished through: Outgrant leases to the city, county, state, private citizens, businesses, or investors; sale to the city, county, state, private citizens, businesses, or investors; removal from the site; or demolition.

ADDRESSES: To obtain copies of the ROD, contact Ms. Jackie Schlatter, ATTN: MCCS-BFE, 2202 15th Street, STE 36 (Bldg. 4196), Fort Sam Houston, Texas 78234-5036.

FOR FURTHER INFORMATION CONTACT: Ms. Jackie Schlatter via e-mail at Jackie.schlatter@cen.amedd.army.mil; by phone at (210) 221-5093; or by facsimile at (210) 221-5419.

SUPPLEMENTARY INFORMATION: Fort Sam Houston has de and planning at Fort Sam Houston, Camp Bullis, and Canyon Lake Recreation area as described in the Fort Sam Houston, Camp Bullis, and Canyon Lake Recreation Area Master Plan Final PEIS. This decision was reached after analysis of the potential environmental impacts of each alternative, the evolving mission responsibilities of Fort Sam Houston and the U.S. Army, and the public comments received on the Draft and Final PEIS. By allowing public and private tenants, the combination of Alternatives 2 and 3 is the environmentally preferable alternative, as it gives the greatest flexibility to Fort Sam Houston for adaptively reusing its historic buildings and so preserving them.

It is national policy, as reflected in the National Historical Preservation Act (NHPA), to preserve historical sites to the extent possible within a Federal agency's resources. This consideration influenced the decision to select a combination of Alternatives 2 and 3 as they best meet this policy. As required under Federal regulations, Fort Sam Houston will notify the State Historic Preservation Officer regarding any adverse effects on individual projects affecting historic sites. Once Fort Sam Houston implements the Army Alternate Procedures, any adverse effects will be appropriately addressed by Fort Sam Houston's internal procedures.

Implementation of a combination of Alternatives 2 and 3 provides the Army maximum flexibility and offers the greatest potential for Fort Sam Houston to continue to serve as a viable Army installation while making efficient use of facilities and maintaining important cultural resource values within existing and anticipated future fiscal restraints. Alternatives 2 and 3 involve the reduction of the number of underutilized/unutilized facilities and property on Fort Sam Houston and Camp Bullis, in addition to changes in the Land Use Plan.

Dated: June 19, 2003.
Raymond J. Fatz,
Deputy Assistant Secretary of the Army, (Environment, Safety and Occupational Health), OASA(I&E).

[FR Doc. 03-16144 Filed 6-25-03; 8:45 am]

BILLING CODE 3710-08-M